DEPARTMENT OF ENERGY

Federal Energy Regulatory Commission

[Docket No. EF01-2021-000]

Department of Energy, Bonneville Power Administration; Notice of Filing

June 6, 2001.

Take notice that on May 30, 2001, the Bonneville Power Administration (Bonneville) filed an amendment to its December 14, 2000 filing of its proposed 2002 Transmission and Ancillary Services (2002 Transmission) rates with the Federal Energy Regulatory Commission (Commission).

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 14, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-14710 Filed 6-11-01; 8:45 am]

BILLING CODE 6717-01-M